DEPARTMENT OF JUSTICE

Notice of Lodging of Consent Decree Under the Clean Air Act and Other Environmental Statutes

Notice is hereby given that on August 19, 2008, a proposed Consent Decree in United States v. Burlington Resins, Inc., d/b/a Colorite Specialty Resins, Inc., Civil Action No. 08-01432 (RBK), was lodged with the United States District Court for the District of New Jersey.

In this action, the United States sought a civil penalty and injunctive relief for violations of the Clean Air Act, 42 U.S.C. 7401, et seq., the Clean Water Act, 33 U.S.C. 1251, et seq., the Resource Conservation and Recovery Act, 42 U.S.C. 6901, et seq., the Toxic Substances Control Act, 15 U.S.C. 2601, et seq., and the Emergency Planning and Community Right-to-Know Act, 42 U.S.C. 11001, et seq., as well as regulations promulgated under those statutes, including the National Emission Standard for Vinyl Chloride at 40 CFR Part 61, Subpart F, in connection with the polyvinyl chloride manufacturing facility that the settling defendant, Colorite Specialty Resins, Inc. (Colorite), operates at 116 Beverly Road, Burlington, New Jersey. The Consent Decree requires Colorite to implement injunctive relief to bring its facility into compliance, including reducing vinyl chloride emissions, implementing a comprehensive leak detection and repair program, and instituting better hazardous waste handling practices. The Decree also requires Colorite to pay a $1.3 million civil penalty to the United States and the State of New Jersey and to perform supplemental environmental projects worth $1.1 million.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Burlington Resins, Inc., d/b/a Colorite Specialty Resins, Inc., D.J. Ref. No. 90-5-2-1-08682.

The Consent Decree may be examined at the Office of the United States Attorney, 970 Broad Street, Suite 700, Newark, N.J. 07102, and at U.S. EPA Region 2, 290 Broadway, New York, N.Y. 10007. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $21.00 (25 cents per page reproduction cost) payable to the U.S. Treasury or, if by e-mail or fax, forward a check in that amount to the Consent Decree Library at the stated address.

Ronald Gluck,
Assistant Chief, Environmental Enforcement Section, Environment and Natural Resources Division.

[FR Doc. E8-19779 Filed 8-25-08; 8:45 am]

BILLING CODE 4410-CW-P